DEPARTMENT OF ENERGY

Federal Energy Regulatory Commission

[Project No. 6240-064]

Watson Associates; Notice Soliciting Scoping Comments

Take notice that the following hydroelectric application has been filed with the Commission and is available for public inspection.

a. Type of Application: Subsequent Minor License.

b. Project No.: 6240-064.

c. Date Filed: August 27, 2021.

d. Applicant: Watson Associates.

e. Name of Project: Watson Dam Project.

f. Location: On the Cocheco River in Strafford County, New Hampshire. The project does not occupy any federal land.

g. Filed Pursuant to: Federal Power Act, 16 U.S.C. 791(a)-825(r).

h. Applicant Contact: Mr. John Webster, Watson Associates, P.O. Box 178, South Berwick, ME 03908; Phone at (207) 384-5334, or email at Hydromagnt@gwi.net.

i. FERC Contact: Michael Watts at (202) 502-6123, or michael.watt@ferc.gov.

j. Deadline for filing scoping comments: March 2, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Watson Dam Project (P-6240-064).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing Watson Dam Project (Figure 2) consists of: (1) A 292.5-foot-long, 12-foot-high concrete gravity dam that includes the following sections: (a) A 54-foot-long right abutment; (b) a 111-foot-long right spillway section with 24-inch-high flashboards and a crest elevation of 110.1 North American Vertical Datum of 1988 (NAVD 88) at the top of the flashboards; (c) a 12-foot-long, 11. 5-foot-wide concrete spillway center pier; (d) an 80-foot-long left spillway section with 24-inch-high flashboards and a crest elevation of 110.2 feet NAVD 88 at the top of the flashboards; and (e) a 24-foot-long left abutment; (2) an impoundment with a surface area of 54 acres and a storage capacity of 300 acre-feet at an elevation of 110.1 feet NAVD 88; (3) a 26-foot-long, 24-foot-wide intake structure in the left abutment that is equipped with an 8.5-foot-diameter headgate and trashrack with 2-inch clear bar spacing; (4) a 26.5-foot-long, 34-foot-wide wood and steel powerhouse containing one 265-kilowatt vertical Flygt submersible turbine-generator unit; (5) a 250-foot-long, 20-foot-wide tailrace that discharges into the Cocheco River; (6) a 0.48/12.47-kilovolt (kV) step-up transformer and an 80-foot-long, 12.47 kV transmission line that connect the project to the local utility distribution system; and (7) appurtenant facilities. The project creates an approximately 250-foot-long and a 400-foot-long bifurcated bypassed reaches of the Cocheco River.

Watson Associates voluntarily operates the project in a run-of-river mode using an automatic pond level control system to regulate turbine operation, such that outflow from the project approximates inflow. Downstream fish passage is provided by a bypass facility located next to the project's intake on the left side of the dam. There is no upstream fish passage facility at the project.

Article 26 of the current license requires a minimum flow of 83 cfs or inflow to the impoundment, whichever is less, from the project, to protect and enhance aquatic resources in the Cocheco River. Watson Associates is required to operate the downstream fish passage facility from October 1 through November 15 of each year.

The average annual energy production of the project is approximately 1,100. MWh.

Watson Associates proposes to: (1) Continue to operate the project in a run-of-river mode; (2) continue to provide downstream fish passage through the bypass facility; and (3) consult with the New Hampshire State Historic Preservation Officer before beginning any land-disturbing activities or alterations to known historic structures within the project boundary.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on the preliminary list of issues and alternatives to be addressed in the NEPA document, as described in scoping document 1 (SD1), issued January 31, 2022.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: January 31, 2022.
Kimberly D. Bose,
Secretary.

[FR Doc. 2022-02372 Filed 2-3-22; 8:45 am]

BILLING CODE 6717-01-P